Proclamation 10200 of May 3, 2021

Older Americans Month, 2021

By the President of the United States of America

A Proclamation

During Older Americans Month, we celebrate older Americans and the key role they play in sharing the wisdom and experience that inform today's decisions and actions, and fostering the connection and engagement that build strong, resilient communities. And, we recognize our responsibility to ensure that every American has the opportunity to age with dignity.

The COVID-19 pandemic has imposed tremendous hardships on our Nation's older Americans. Older adults—particularly those from communities of color—have comprised the majority of deaths from COVID-19, with more than 80 percent of all deaths to date occurring in persons 65 and older. Many older Americans have also suffered extreme social isolation from being separated from friends, family, and community resources throughout the pandemic. In spite of this, older Americans have stepped up to support their families, friends, and neighbors. They are among our essential workers, volunteers, and donors, bolstering their communities and inspiring others to do the same. I am committed to ensuring older adults are central in our country's recovery efforts.

My Administration recognizes the value of our older adults and supports the issues most important to them, such as Medicare, Social Security, lowering the price of prescription drugs, and long-term care options—including Medicaid's home and community-based services programs. The American Rescue Plan puts the needs of older Americans at the forefront of our country's path to recovery, starting by mounting a national vaccination program to quickly and efficiently deliver lifesaving vaccines, prioritizing our older citizens.

The American Rescue Plan also provides much needed support to skilled nursing facilities, so they can improve infection control and vaccination rollout capability by partnering with quality improvement organizations. The law allocates funding to support mitigation, clinical care, infection control, and staffing in long-term care facilities during the pandemic. The law also provides significant funding to support older adults who receive home and community-based services through Medicaid to help them remain safe and independent in their own homes and communities throughout the pandemic.

And, the American Rescue Plan adds substantial funding to programs authorized under the Older Americans Act. These programs also connect older adults and their caregivers to food, health care, and other home and community-based services. The American Rescue Plan also calls for the establishment of the National Technical Assistance Center on Grandfamilies and Kinship Families, to give much needed aid to those older Americans who have stepped up to parent the next generation of Americans. Finally, the plan enhances the Elder Justice Act and ensures Adult Protective Services can be used to protect the safety of all adults as they age.

As our country works to put COVID-19 behind us, we know there is more we must do to ensure that older Americans can live and age with dignity. We are committed to ensuring older Americans can easily access appropriate services they need to stay safe and healthy as they age.

In this year of peril and promise, older Americans have suffered greatly, and provided inspirational demonstrations of strength. During Older Americans Month, we honor these citizens and their continued contributions. We commit to learning from them, and we pledge to support their futures.

NOW, THEREFORE, I, JOSEPH R. BIDEN JR., President of the United States of America, by virtue of the authority vested in me by the Constitution and the laws of the United States, do hereby proclaim May 2021 as Older Americans Month. I call upon Americans of all ages to celebrate older Americans during this month and throughout the year.

IN WITNESS WHEREOF, I have hereunto set my hand this third day of May, in the year of our Lord two thousand twenty-one, and of the Independence of the United States of America the two hundred and forty-fifth.

[FR Doc. 2021-09739

Filed 5-5-21; 8:45 am]

Billing code 3295-F1-P